DEPARTMENT OF JUSTICE

Notice of Lodging of Consent Decree Under the Comprehensive Environmental Response, Compensation, and Liability Act (“CERCLA”)

Consistent with the policy of Section 122(d)(2) of CERCLA, 42 U.S.C. 9622(d)(2), notice is hereby given that on November 3, 2003, a Settlement Agreement with Plainwell, Inc. (“Plainwell”) and five affiliated companies was lodged with the Bankruptcy Court for the District of Delaware, in In re Plainwell, Inc. and Plainwell Holding Co., Case No. 00-4350 (JWV).

The proposed Settlement Agreement is with: (1) Plainwell and its parent company, Plainwell Holding Company (collectively, the “Debtors”), both of which are in liquidation proceedings under Chapter 11 of the Bankruptcy Code; and (2) the Debtors' past parent companies, Colonial Heights Packaging, Inc., Philip Morris USA Inc., Chesapeake Corporation, and Simpson Paper Company (collectively, the “non-debtor Plainwell Parties”), which are not in bankruptcy. The Settlement Agreement resolves claims of the United States and the State of Michigan against those parties under Section 106 and 107 of the Comprehensive Environmental Response, Compensation, and Liability Act (“CERCLA”), for response costs, the performance of response actions, and natural resource damages with respect to the Allied/Portage Creek/Kalamazoo River Superfund Site in Plainwell, Michigan (“Site”). The claims by the United States addressed in the Settlement Agreement include claims on behalf of the United States Environmental Protection Agency (“EPA”), the United States Department of the Interior (“DoI”), and the National Oceanic and Atmospheric Administration of the United States Department of Commerce (“NOAA”). The State of Michigan (“State”) is also a signatory to the Agreement.

Under the proposed Settlement Agreement, the non-debtor Plainwell Parties will pay approximately (1) $6.2 million towards EPA's future response costs in connection with the Site; (2) $23,000 towards EPA's past response costs; (3) $900,000 for use jointly by DOI, NOAA, and the State, as trustees of natural resources injured at the Site, to restore, replace, or acquire the equivalent of the injured resources; and (4) $16,000 towards the Federal and State trustees' natural resource damages assessment costs. In addition, the Agreement requires Plainwell to execute a restrictive covenant in favor of the United States and the State on a landfill that it owns.

The Department of Justice will receive for a period of thirty (30) days from the date of this publication comments relating to the proposed Settlement Agreement. Comments should be addressed to the Assistant Attorney General, Environment and Natural Resources Division, P.O. Box 7611, U.S. Department of Justice, Washington, DC 20044-7611, and should refer to In re Plainwell, Inc. and Plainwell Holding Co., Case No. 99-4350 (JWV) (DOJ Ref. No. 90-11-2-1306).

The Settlement Agreement may be examined at the Office of the United States Attorney, District of Delaware, 1007 North Orange Street, Suite 700, Wilmington, Delaware 19899-2046; and at EPA Region 5, 77 W. Jackson Blvd., Chicago, Illinois 60604 (contact Eileen L. Furey, Esq. (312) 886-7950). During the public comment period, the Settlement Agreement may also be examined on the following Department of Justice Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please refer to In re Plainwell, Inc. and Plainwell Holding Co., Case No. 00-4350 (JWV) (DOJ Ref. No. 90-11-2-1306), and enclose a check in the amount of $11.50 (25 cents per page reproduction cost) payable to the U.S. Treasury.

William D. Brighton,
Assistant Chief, Environmental Enforcement Section, Environment & Natural Resources Division.

[FR Doc. 03-27996 Filed 11-5-03; 8:45 am]

BILLING CODE 4410-15-M